DEPARTMENT OF COMMERCE

Bureau of Industry and Security

15 CFR Part 774

[Docket No. 110106012-1013-01]

RIN 0694-AF04

Implementation of the Understandings Reached at the 2010 Australia Group (AG) Plenary Meeting and Other AG-Related Clarifications and Corrections to the EAR

Correction

In rule document 2011-9613 appearing on pages 22017-22019 in the issue of April 20, 2011, make the following correction:

PART 774—[CORRECTED]

Supplement No. 1 to Part 774—[Corrected]

On page 22019, in the first column, instruction 4.c. is corrected to read as follows:

c. By removing the phrase “Glass or glasslined (including vitrified or enameled coatings),” where it appears in paragraph g.4, and adding in its place the phrase “Glass (including vitrified or enameled coating or glass lining);” and

[FR Doc. C1-2011-9613 Filed 5-6-11; 8:45 am]

BILLING CODE 9613-P